DEPARTMENT OF COMMERCE

National Oceanic and Atmospheric Administration

RIN 0648-AY56

Fisheries of the Caribbean, Gulf of Mexico, and South Atlantic; Amendment 32 to the Fishery Management Plan for the Reef Fish Resources of the Gulf of Mexico

AGENCY: National Marine Fisheries Service (NMFS), National Oceanic and Atmospheric Administration (NOAA), Commerce.

ACTION: Notice; intent to prepare a draft environmental impact statement (DEIS); scoping; request for comments.

SUMMARY: NMFS, Southeast Region, in collaboration with the Gulf of Mexico Fishery Management Council (Council) intends to prepare a DEIS to describe and analyze management alternatives to be included in an amendment to the Fishery Management Plan for the Reef Fish Resources of the Gulf of Mexico (FMP). These alternatives will consider measures to end overfishing of gag; create a rebuilding plan for the gag stock that will restore the stock to its maximum sustainable yield level (MSY); adjust gag and red grouper annual catch limits (ACLs), annual catch targets (ACTs), and other management measures; and revise shallow-water grouper accountability measures (AMs). In addition, the DEIS will consider separating the recreational sector of the grouper component of the reef fish fishery, revising multi-use individual fishing quota (IFQ) shares, methods to reduce gag bycatch, and improving data collection and monitoring of the recreational sector. The purpose of this notice of intent (NOI) is to solicit public comments on the scope of issues to be addressed in the DEIS.

DATES: Written comments on the scope of issues to be addressed in the DEIS must be received by NMFS by March 4, 2010.

ADDRESSES: Requests for information packets, written comments on the scope of the DEIS, suggested alternatives and potential impacts, and requests for additional information on the amendment should be sent to Peter Hood, National Marine Fisheries Service, Southeast Regional Office, 263 13th Avenue South, St. Petersburg, FL 33701-5505; telephone (727) 824-5305; fax (727) 824-5308. Comments may also be sent by email to Peter.Hood@noaa.gov.

FOR FURTHER INFORMATION CONTACT: Peter Hood; phone: (727) 824-5305; fax: (727) 824-5308; email: peter.hood@noaa.gov.

SUPPLEMENTARY INFORMATION: Based on the results of the 2009 stock assessment update, NMFS notified the Council on August 11, 2009, that the Gulf of Mexico (Gulf) gag stock was both overfished and undergoing overfishing. The gag stock has shown declines in indices of abundance since 2005. Under the Magnuson-Stevens Fishery Conservation and Management Act (Magnuson-Stevens Act), within two years of notifying the Council of a stock's condition, a plan must be developed and implemented to end overfishing and rebuild the stock.

For Gulf gag and red grouper, ACLs must be reexamined in light of new information on the stocks. To rebuild the gag stock, an ACL, and optionally an ACT, must be set at levels that will prevent overfishing from occurring while allowing the gag stock to rebuild to a biomass level capable of producing MSY in 10 years or less. Although the 2009 stock assessment update of the red grouper stock in the Gulf of Mexico indicated the stock continues to be neither overfished or undergoing overfishing, the stock has declined since 2005. The ACT currently in effect exceeds the optimum yield level for 2010 and the acceptable biological catch level set by the Scientific and Statistical Committee for 2010.

In Amendment 30B, the AMs implemented for gag and red grouper were established under a quota system and do not reflect changes that occurred in the commercial sector when the IFQ system was implemented in January of 2010, including the incorporation of tilefish into the IFQ program. In addition, the AMs do not contain the overage adjustment for overfished stocks recommended by the National Standard 1 Guidelines. Therefore, the AMs for gag and red grouper should be revisited.

Private recreational fishing vessels and for-hire (charter and headboat) vessels are currently combined for management purposes into a single recreational sector. However, if each sector had its own ACL and ACT, managers would have greater flexibility in managing the sectors. The for-hire and private recreational sectors could potentially be given different fishing seasons, bag limits, or other management measures, and could improve the net benefits of the recreational grouper component of the reef fish fishery.

The IFQ system implemented for the commercial grouper and tilefish components of the Gulf reef fish fishery in 2010 allowed for flexibility in gag and red grouper harvest by allowing for multi-use shares (valid for harvesting either red or gag grouper). However, under the reduced red grouper and gag annual catch limits expected to be implemented through Amendment 32, it is possible that the use of multi-use shares could result in commercial harvest of red grouper or gag exceeding the sector allocation. To prevent this from happening, adjustments need to be made to the provision for multi-use shares in the grouper individual fishing quota system.

The reduced gag catch limits under the initial years of the rebuilding plan require substantial reductions in both commercial and recreational harvest. The commercial harvest can be reduced through an adjustment to the commercial quota, but the recreational sector has no quota. Recreational catch levels are managed primarily through a combination of bag limits, minimum size limits and closed seasons. A combination of management measures need to be adopted that will achieve the needed reductions in the recreational fishery.

Bycatch issues need to be addressed in both the commercial and recreational grouper fisheries. With the large difference between the red grouper and gag commercial quotas, this could result in large numbers of gag discards as fishermen direct effort to catch red grouper. Specifically, ways to reduce gag bycatch are needed in both sectors of the fishery. Proposed measures have included time and area closures to protect gag, the use of gear that does not target gag, and changes in gag size and bag limits.

Data collection and monitoring of the recreational fishery could be improved in terms of both accuracy and timeliness to enhance management of the recreational sector and application of AMs. The Council is evaluating methods such as fish tags or a fish stamp, and several proposals have been directed toward the Council to improve the monitoring and management of the recreational fishery. These recommendations could improve the quality and timeliness of information needed to assess the different reef fish fisheries.

NMFS, in collaboration with the Council, will develop a DEIS to describe and analyze management alternatives to address the management needs described above. Those alternatives include, but are not limited to, a “no action” alternative regarding each action; alternatives to end overfishing of gag and rebuild the stock to its MSY level; alternatives to adjust gag and red grouper ACLs, ACTs, management measures, and AMs; alternatives to consider recreational sector separation; alternatives to revise how multi-use IFQ shares are allocated; alternatives to reduce gag bycatch; and alternatives to improve data collection and monitoring of the recreational sector.

In accordance with NOAA's Administrative Order 216-6, Section 5.02(c), Scoping Process, NMFS, in collaboration with the Council, has identified preliminary environmental issues as a means to initiate discussion for scoping purposes only. These preliminary issues may not represent the full range of issues that eventually will be evaluated in the DEIS.

Copies of an information packet will be available from NMFS (see ADDRESSES).

After the DEIS associated with Amendment 32 is completed, it will be filed with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

NMFS will consider public comments received on the DEIS in developing the final environmental impact statement (FEIS) and before adopting final management measures for the amendment. NMFS will submit both the final amendment and the supporting FEIS to the Secretary of Commerce (Secretary) for review as per the Magnuson-Stevens Act.

NMFS will announce, through a notice published in the Federal Register, the availability of the final amendment for public review during the Department of Commerce Secretarial review period. During Secretarial review, NMFS will also file the FEIS with the EPA and the EPA will publish a notice of availability for the FEIS in the Federal Register. This comment period will be concurrent with the Secretarial review period and will end prior to final agency action to approve, disapprove, or partially approve the amendment.

NMFS will announce, through a notice published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: January 27, 2010
Emily H. Menashes,
Acting Director, Office of Sustainable Fisheries, National Marine Fisheries Service.

[FR Doc. 2010-2161 Filed 2-1-10; 8:45 am]

BILLING CODE 3510-22-S